DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by January 29, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Significant Cave Nomination.

OMB Control Number: 0596-0244.

Summary of Collection: The Federal Cave Resources Protection Act (FCRPA) [Pub. L. 100-691, 107 Stat. 4546] requires the Secretaries of Agriculture and Interior to identify and protect significant caves on Federal lands within their respective jurisdictions. The information covered in this collection applies to caves on Federal lands administered by the Forest Service. The FCRPA does not define what constitutes a “significant” cave, but it does require the Secretaries, in cooperation and consultation with each other, to issue regulations that define criteria for identification of significant caves found at (16 U.S.C. 4303(a)).

Need and Use of the Information: In accordance with FCRPA, the FS collects information from appropriate private sector interests, including “cavers,” to update a list of significant caves under USDA's jurisdiction. FS will use form FS-2800-0023 “Significant Cave Nomination Worksheet” to collect name, address, telephone number of individual or organization submitting the nomination and the individual who is knowledgeable about the resources in the cave; name and location of the cave, a discussion of how the cave meets the criteria, studies, maps, research papers and other supporting documentation. If this information is not collected FS might not become aware of potentially significant caves' existence or have insufficient information upon which to base a judgment as to their significance.

Description of Respondents: Individuals and households.

Number of Respondents: 10.

Frequency of Responses: Reporting: One time.

Total Burden Hours: 110.

Levi S. Harrell,
Departmental Information Collection Clearance Officer.

[FR Doc. 2024-31248 Filed 12-27-24; 8:45 am]

BILLING CODE 3411-15-P